DEPARTMENT OF COMMERCE

International Trade Administration

[A-588-810]

Mechanical Transfer Presses From Japan: Notice of Final Results of Changed Circumstances Review, and Revocation in Part of Antidumping Duty Order

AGENCY: Import Administration, International Trade Administration, Department of Commerce.

SUMMARY: On July 10, 2001, the Department of Commerce (“the Department”) published a notice of initiation and preliminary results of a changed circumstances review with the intent to revoke, in part, the antidumping duty order on mechanical transfer presses from Japan, as it pertains to certain large, hot-forging presses. See Mechanical Transfer Presses From Japan: Notice of Initiation and Preliminary Results of Changed Circumstances Review of the Antidumping Order and Intent to Revoke Order in Part, 66 FR 35932 (July 10, 2001) (Initiation and Preliminary Results). In the Initiation and Preliminary Results, we gave interested parties an opportunity to comment; we did not receive, however, any comments on the preliminary results. We are now revoking this order, in part, based on the fact that domestic parties have expressed no interest in the continuation of the order as it pertains to the large, hot-forging presses described below.

EFFECTIVE DATE: August 10, 2001.

FOR FURTHER INFORMATION CONTACT: Mark Hoadley, Import Administration, International Trade Administration, U.S. Department of Commerce, 14th Street and Constitution Avenue, NW., Washington, DC 20230; telephone: (202) 482-0666.

The Applicable Statute and Regulations

Unless otherwise indicated, all citations to the statute are references to the provisions effective January 1, 1995, the effective date of the amendments made to the Tariff Act of 1930 (“the Act”) by the Uruguay Round Agreements Act. In addition, unless otherwise indicated, all citations to the Department's regulations are to the regulations as codified at 19 CFR Part 351 (2000).

SUPPLEMENTARY INFORMATION:

Background

On May 3, 2001, Sumitomo Heavy Industries, Ltd. (Sumitomo) requested that the Department partially revoke the antidumping duty order on mechanical transfer presses from Japan. Specifically, Sumitomo requested that the Department revoke the order as it pertains to imports meeting the following specifications: automatic forging presses within the current scope of the order, which operate at a forging temperature of 900 degrees centigrade or higher, and which have a capacity of 1600 metric tons or greater.

Sumitomo is a foreign producer of the products in question. Attached to its request, Sumitomo submitted two letters from the only two domestic parties claiming to be producers of subject merchandise, Enprotech Mechanical Services, Inc. (Enprotech) and IHI-Verson Press Technology, LLC. (Verson), stating that they did not oppose excluding large, hot-forging presses, as defined above, from the scope of the order. On June 11, 2001, we sent letters to all three domestic interested parties who have expressed an interest in this proceeding, the two domestic producers noted above and the International Union, United Auto Workers, requesting comments by June 15, 2001, either supporting or objecting to the partial revocation. We received no comments in opposition to the changed circumstances review or the partial revocation, and subsequently issued our preliminary determination to revoke the order in part in combination with the initiation of the changed circumstances review. We gave interested parties until July 24, 2001, to comment on the Initiation and Preliminary Results. We received no comments on our preliminary results.

Scope of Changed Circumstances Review

Imports covered by the order include MTPs currently classifiable under Harmonized Tariff Schedule (HTSUS) item numbers 8462.99.0035 and 8466.94.5040. The HTSUS subheadings are provided for convenience and Customs purposes only. The written description of the scope of this order is dispositive. The term “mechanical transfer presses” refers to automatic metal-forming machine tools with multiple die stations in which the work piece is moved from station to station by a transfer mechanism designed as an integral part of the press and synchronized with the press action, whether imported as machines or parts suitable for use solely or principally with these machines. These presses may be imported assembled or unassembled. This review does not cover certain parts and accessories, which were determined to be outside the scope of the order. (See “Final Scope Ruling on Spare and Replacement Parts,” U.S. Department of Commerce, March 20, 1992; and “Final Scope Ruling on the Antidumping Duty Order on Mechanical Transfer Presses (MTPs) from Japan: Request by Komatsu, Ltd.,” U.S. Department of Commerce, October 3, 1996.)

Final Results of Review; Partial Revocation of Antidumping Duty Order

The affirmative statement by domestic producers of no opposition to excluding the large, hot-forging presses described above constitutes changed circumstances sufficient to warrant partial revocation of this order. In addition, no party commented on the Initiation and Preliminary Results. Therefore, the Department is partially revoking the order on mechanical transfer presses from Japan as it pertains to products which meet the specifications detailed above, in accordance with sections 751(b) and (d) and 782(h) of the Act and 19 CFR 351.216(d)(1). We will instruct the U.S. Customs Service (“Customs”) to liquidate without regard to antidumping duties, as applicable, and to refund any estimated antidumping duties collected for all unliquidated entries of mechanical transfer presses meeting the specifications indicated above, and not subject to final results of an administrative review, as of the date of publication in the Federal Register of these final results in accordance with 19 CFR 351.222. We will also instruct Customs to pay interest on such refunds in accordance with section 778 of the Act.

This notice serves as a reminder to parties subject to administrative protective orders (APOs) of their responsibility concerning the disposition of proprietary information disclosed under APO in accordance with 19 CFR 351.306. Timely written notification of the return/destruction of APO materials or conversion to judicial protective order is hereby requested. Failure to comply with the regulations and terms of an APO is a sanctionable violation.

This changed circumstances review, partial revocation of the antidumping duty order, and notice are in accordance with sections 751(b) and (d) and 782(h) of the Act and sections 351.216 and 351.222(g) of the Department's regulations.

Dated: August 3, 2001.
Faryar Shirzad,
Assistant Secretary for Import Administration.

[FR Doc. 01-20106 Filed 8-9-01; 8:45 am]

BILLING CODE 3510-DS-P